DEPARTMENT OF ENERGY

Federal Energy Regulatory Commission

[Project No. 13414-000]

City of Burlington, IA; Notice of Preliminary Permit Application Accepted for Filing and Soliciting Comments, Motions To Intervene, and Competing Applications

May 4, 2009.

On March 31, 2009, the City of Burlington, Iowa filed an application, pursuant to section 4(f) of the Federal Power Act, proposing to study the feasibility of the City of Burlington Hydroelectric Project, to be located on the Mississippi River, in Des Moines County, Iowa and Henderson County, Illinois.

The proposed City of Burlington Hydroelectric Project would be located at the existing U.S. Army Corps of Engineers' Lock and Dam No. 18 near Gladstone, Illinois and Burlington, Iowa. Lock and Dam No. 18's impoundment equals about 12,152 surface acres.

The proposed project would consist of: (1) Thirty submersible 500-kilowatt turbine/generators with total installed hydraulic capacity of 36,000 cubic feet per second and total installed generating capacity of 15 megawatts; (2) a new 1-mile-long transmission line; (3) appurtenant facilities. The City of Burlington Project would have an estimated average annual generation of 76,831 megawatts-hours, which would be sold to Alliant Energy, Inc.

Applicant Contact: Mr. Doug Worden, City Manager, City of Burlington, Iowa, 400 Washington Street, Burlington, Iowa 52601, (319) 753-8120.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13414) in the docket number field to access the document. For assistance, call toll-free 1-866-208-3372.

Kimberly D. Bose,
Secretary.

[FR Doc. E9-11117 Filed 5-12-09; 8:45 am]

BILLING CODE 6717-01-P